DEPARTMENT OF COMMERCE

Foreign-Trade Zones Board

[S-64-2018]

Foreign-Trade Zone 24—Pittston, Pennsylvania; Application for Subzone Expansion; Brake Parts Inc; Hazleton, Pennsylvania

An application has been submitted to the Foreign-Trade Zones Board (the Board) by the Eastern Distribution Center, Inc., grantee of FTZ 24, requesting an expansion of Subzone 24E on behalf of Brake Parts Inc in Hazleton, Pennsylvania. The application was submitted pursuant to the provisions of the Foreign-Trade Zones Act, as amended (19 U.S.C. 81a-81u), and the regulations of the Board (15 CFR part 400). It was formally docketed on April 30, 2018.

Subzone 24E was approved on March 2, 2017 (Doc. S-169-2016). The subzone currently consists of the following site: Site 1 (28 acres)—62 Green Mountain Road, Hazleton, Schuylkill County.

The current request would add 15.2 acres to the existing subzone site. No additional authorization for production activity has been requested at this time. The subzone would continue to be subject to the existing activation limit of FTZ 24.

In accordance with the Board's regulations, Elizabeth Whiteman of the FTZ Staff is designated examiner to review the application and make recommendations to the Executive Secretary.

Public comment is invited from interested parties. Submissions shall be addressed to the Board's Executive Secretary at the address below. The closing period for their receipt is June 12, 2018. Rebuttal comments in response to material submitted during the foregoing period may be submitted during the subsequent 15-day period to June 27, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: April 30, 2018.
Andrew McGilvray,
Executive Secretary.

[FR Doc. 2018-09387 Filed 5-2-18; 8:45 am]

BILLING CODE 3510-DS-P